DEPARTMENT OF COMMERCE

National Oceanic and Atmospheric Administration

RIN 0648-XG844

Pacific Island Fisheries; Western Pacific Stock Assessment Review; Public Meeting

AGENCY: National Marine Fisheries Service (NMFS), National Oceanic and Atmospheric Administration (NOAA), Commerce.

ACTION: Notice; public meeting.

SUMMARY: NMFS and the Western Pacific Fishery Management Council (Council) will convene a Western Pacific Stock Assessment Review (WPSAR) of three 2019 benchmark stock assessments for bottomfish in American Samoa, the Commonwealth of the Northern Mariana Islands (CNMI), and Guam.

DATES: See SUPPLEMENTARY INFORMATION for meeting dates and times and the daily agenda.

ADDRESSES: The meeting will be held at the Western Pacific Fishery Management Council office, 1164 Bishop St., Suite 1400, Honolulu, HI 96813.

FOR FURTHER INFORMATION CONTACT: Michael Seki, Director, NMFS Pacific Islands Fisheries Science Center, tel (808) 725-5360, fax (808) 725-5360, email michael.seki@noaa.gov.

SUPPLEMENTARY INFORMATION: The Pacific Islands Fisheries Science Center (PIFSC) conducted three benchmark stock assessments for the Bottomfish Management Unit Species (BMUS) in the U.S. territories of American Samoa, the CNMI, and Guam, and combined them into a single stock assessment review. For each assessment, scientists modelled all BMUS species a single complex. PIFSC conducted the previous stock assessments for territorial bottomfish as an update in 2015. The 2019 benchmark assessments incorporate improvements to data standardization and model assumptions that follow recommendations from the review panel for the 2015 assessments for the same stocks. The 2019 assessments also account for variations in creel survey estimates of BMUS catch. PIFSC used production models to estimate biomass and stock status through time, and to evaluate stock status against maximum sustainable yield-based reference points set in the fishery ecosystem plans for American Samoa and the Mariana Archipelago, which includes the CNMI and Guam. The 2019 assessments provide projections to inform management in recommending allowable biological catch and annual catch limits.

Meeting Agenda

The WPSAR panel will meet from 8:30 a.m. to 5 p.m. each day. The agenda order may change and the meeting will run as late as necessary to complete scheduled business.

Day 1, Monday April 15

1. Welcome and Introductions.

2. Background information—Objectives and Terms of Reference.

a. Fishery Operation.

b. Fishery Management.

3. History of stock assessments and reviews.

4. Data.

a. Western Pacific Fisheries Information Network

b. Life history information.

c. Other.

5. Presentation and review of stock assessment.

Day 2, Tuesday April 16

6. Continue presentation and review of stock assessment.

Day 3, Wednesday April 17

7. Continue review of stock assessment.

Day 4, Thursday April 18

8. Continue review of stock assessment.

9. Public comment period.

10. Panel discussions (closed).

Day 5, Friday April 19

11. Continue panel discussions (closed, morning).

12. Panel presents recommendations (afternoon).

13. Adjourn.

Special Accommodations

This meeting is physically accessible to people with disabilities. Please direct requests for sign language interpretation or other auxiliary aids to Michael Seki (see FOR FURTHER INFORMATION CONTACT section above) at least 5 days prior to the meeting date.

Authority: 16 U.S.C. 1801 et seq.

Dated: March 8, 2019.
Alan D. Risenhoover,
Director, Office of Sustainable Fisheries, National Marine Fisheries Service.

[FR Doc. 2019-04643 Filed 3-12-19; 8:45 am]

BILLING CODE 3510-22-P